FEDERAL COMMUNICATIONS COMMISSION

Notice of Public Information Collection(s) Being Reviewed by the Federal Communications Commission, Comments Requested.

September 7, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 13, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0221.

Title: 90.155 Time in which station must be placed in operation.

Form No.: N/A.

Type of Review: Revision of a previously approved collection.

Respondents: Business or other for-profit.

Number of Respondents: 2,055.

Estimated Time Per Response: 1 hours.

Total Annual Burden: 2,055 hours.

Frequency of Response: On occasion.

Total Annual Cost: 0.

Needs and Uses: The information collection requirement contained in Section 90.155 is needed to provide flexibility to state and local governments that would normally be unable to meet the requirement of placing their radio station in operation within 8 months. The information is used to evaluate if the exception to the 8 month requirement is warranted. If the information was not collected the Commission's information regarding actual loading of frequencies would be inaccurate.

OMB Approval Number: 3060-0262.

Title: Section 90.179 Shared Use of Radio Stations.

Form No.: N/A.

Type of Review: Extension of existing collection.

Respondents: Business or other for-profit, non-profit institutions, state and local governments.

Number of Respondents: 41,000.

Estimated Time Per Response: .75 hour.

Total Annual Burden: 30,750 hours.

Total Annual Cost: 0.

Needs and Uses: The requirement contained in this rule section is necessary to identify users of a shared land mobile radio station. The information is used by Commission personnel to investigate interference complaints.

OMB Approval Number: 3060-0805.

Title: 90.527 Regional plan requirements & 90.523 Eligibility.

Form No.: N/A.

Type of Review: Revision of a previously approved collection.

Respondents: Business or other for-profit.

Number of Respondents: 26,656.

Estimated Time Per Response: 23.8 hours.

Total Annual Burden: 647,675.

Frequency of Response: On occasion.

Total Annual Cost: 0.

Needs and Uses: The First Report and Order, FCC 98-191, in WT Docket No. 96-86 amended service rules to make the spectrum available for licensing to public safety entities. In order to satisfy local and regional needs and preferences, the Commission requires submission of regional plans drafted by planning committees made up of representatives from the public safety community. Creation of these plans necessarily impose some burden, both on the eligible entities that make their needs known, and on the planners who seek to accommodate them.

OMB Approval Number: 3060-0858.

Title: State Public Safety Plans.

Form No.: N/A.

Type of Review: New collection.

Respondents: State and local governments.

Number of Respondents: 50.

Estimated Time Per Response: 10,270 hours per respondent.

Total Annual Burden: 513,500 hours.

Total Annual Cost: 0.

Needs and Uses: The Third Notice of Proposed Rule Making in, FCC 98-191, in WT Docket No. 96-86 invites comments on how to license 8.8 megahertz of spectrum in the 700 MHZ band that is allocated for public safety services. For example, comment is sought on whether to license 700 MHZ band spectrum directly to each individual state and should the state adhere to the same planning process as the Regional Planning Committees. We assume that the individual states would spend 10,270 hours to complete its public safety communications plan.

Federal Communications Commission.
Magalie Roman Salas,
Secretary.

[FR Doc. 01-23052 Filed 9-13-01; 8:45 am]

BILLING CODE 6712-01-P